DEPARTMENT OF HEALTH AND HUMAN SERVICES

Food and Drug Administration

Request for Nominations for Voting Members on Public Advisory Committee, Food Advisory Committee

AGENCY: Food and Drug Administration, HHS.

ACTION: Notice.

SUMMARY: The Food and Drug Administration (FDA) is requesting nominations for voting members to serve on the Food Advisory Committee (FAC), Center for Food Safety and Applied Nutrition (CFSAN).

FDA has a special interest in ensuring that women, minority groups, and individuals with disabilities are adequately represented on advisory committees and, therefore, encourages nominations of qualified candidates from these groups.

DATES: Nominations received on or before August 11, 2008 will be given first consideration for membership on the Food Advisory Committee. Nominations received after August 11, 2008 will be considered for nomination to the committee should nominees still be needed.

ADDRESSES: All Nominations for membership should be sent electronically to CV@FDA.HHS.GOV or by mail to: Advisory Committee Oversight and Management Staff, 5600 Fisher Lane (HF-4), rm. 15A-12, Rockville, MD 20857.

FOR FURTHER INFORMATION CONTACT: Regarding all nomination questions for membership, the primary contact is Carolyn Jeletic, Center for Food Safety and Applied Nutrition, 301-436-1913, FAX: 301-436-2633, e-mail: Carolyn.Jeletic@fda.hhs.gov. Information about becoming a member on an FDA advisory committee can also be obtained by visiting FDA's Web site by using the following link: http://www.fda.gov/oc/advisory/default.htm.

SUPPLEMENTARY INFORMATION: FDA is requesting nomination for voting members on the Food Advisory Committee.

I. Function of the Food Advisory Committee

The committee provides advice, primarily to the Commissioner of Food and Drugs and other appropriate officials, on emerging food safety, food science, nutrition, and other food-related health issues that the FDA considers of primary importance for its food and cosmetics programs. The committee may be charged with reviewing and evaluating available data and making recommendations on matters such as those relating to: (1) Broad scientific and technical food or cosmetic related issues, (2) the safety of new foods and food ingredients, (3) labeling of foods and cosmetics, (4) nutrient needs and nutritional adequacy, and (5) safe exposure limits for food contaminants. The committee may also be asked to provide advice and make recommendations on ways of communicating to the public the potential risks associated with these issues and on approaches that might be considered for addressing the issues.

II. Criteria for Voting Members

FDA is requesting nominations of voting members with appropriate expertise in the following specialties: Microbiology, food technology, and nutrition.

III. Nomination Procedures

Pursuant to 21 CFR 14.84(d), any interested person may nominate one or more qualified persons for membership on the advisory committee. Self-nominations are also accepted. Nominations shall include the name of the committee, a complete curriculum vitae of each nominee, and their current business address and telephone number and e-mail address if available. Each nomination shall state that the nominee is aware of the nomination, is willing to serve as a member, and appears to have no conflict of interest that would preclude membership. FDA will ask the potential candidates to provide detailed information concerning such matters as financial holdings, employment, and research grants and/or contracts to permit evaluation of possible sources of conflict of interest.

This notice is issued under the Federal Advisory Committee Act (5 U.S.C. app.2) and 21 CFR part 14 relating to advisory committees.

Dated: July 3, 2008.
Randall W. Lutter,
Deputy Commissioner for Policy.

[FR Doc. E8-15839 Filed 7-10-08; 8:45 am]

BILLING CODE 4160-01-S